DEPARTMENT OF TRANSPORTATION

Federal Aviation Administration

14 CFR Part 39

[Docket No. FAA-2021-0611; Project Identifier MCAI-2021-00038-R; Amendment 39-21761; AD 2021-21-01]

RIN 2120-AA64

Airworthiness Directives; Airbus Helicopters Deutschland GmbH Helicopters

AGENCY: Federal Aviation Administration (FAA), DOT.

ACTION: Final rule.

SUMMARY: The FAA is superseding Airworthiness Directive (AD) 2019-05-06, which applied to certain Airbus Helicopters Deutschland GmbH Model EC135P1, EC135P2, EC135P2+, EC135P3, EC135T1, EC135T2, EC135T2+, and EC135T3 helicopters. AD 2019-05-06 required replacing the retaining ring, inspecting the hoist cable hook assembly, and, if necessary, replacing the elastomeric energy absorber. This AD continues to require the actions specified in AD 2019-05-06, and also requires a modification or replacement of the hoist cable hook assembly that would terminate the repetitive inspections and retaining ring replacements, as specified in a European Union Aviation Safety Agency (EASA) AD, which is incorporated by reference. This AD was prompted by a report that a hook detached from the hoist cable. The FAA is issuing this AD to address the unsafe condition on these products.

DATES: This AD is effective December 10, 2021.

The Director of the Federal Register approved the incorporation by reference of a certain publication listed in this AD as of December 10, 2021.

The Director of the Federal Register approved the incorporation by reference of a certain other publication listed in this AD as of April 17, 2019 (84 FR 8961, March 13, 2019).

ADDRESSES: For EASA material incorporated by reference (IBR) in this AD, contact the EASA, Konrad-Adenauer-Ufer 3, 50668 Cologne, Germany; phone: +49 221 8999 000; email: ADs@easa.europa.eu; internet www.easa.europa.eu. You may find this material on the EASA website at https://ad.easa.europa.eu. For service information identified in this AD, contact Airbus Helicopters, 2701 N Forum Drive, Grand Prairie, TX 75052; phone: (972) 641-0000 or (800) 232-0323; fax: (972) 641-3775; or at https://www.airbus.com/helicopters/services/technical-support.html. You may view this material at the FAA, Office of the Regional Counsel, Southwest Region, 10101 Hillwood Pkwy., Room 6N-321, Fort Worth, TX 76177. For information on the availability of this material at the FAA, call 817-222-5110. It is also available in the AD docket on the internet at https://www.regulations.gov by searching for and locating Docket No. FAA-2021-0611.

Examining the AD Docket

You may examine the AD docket on the internet at https://www.regulations.gov by searching for and locating Docket No. FAA-2021-0611; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Jacob Fitch, Aerospace Engineer, COS Program Management Section, Operational Safety Branch, Compliance & Airworthiness Division, FAA, 10101 Hillwood Pkwy., Fort Worth, TX 76177; phone: (817) 222-4130; email: jacob.fitch@faa.gov.

SUPPLEMENTARY INFORMATION:

Background

The EASA, which is the Technical Agent for the Member States of the European Union, has issued EASA AD 2021-0011, dated January 12, 2021 (EASA AD 2021-0011) (also referred to as the Mandatory Continuing Airworthiness Information, or the MCAI), to correct an unsafe condition for Airbus Helicopters Deutschland GmbH (AHD) (formerly Eurocopter Deutschland GmbH, Eurocopter España S.A.) Model EC135P1, EC135P2, EC135P2+, EC135P3, EC135T1, EC135T2, EC135T2+, EC135T3, EC635P2+, EC635P3, EC635T1, EC635T2+, and EC635T3 helicopters, all serial numbers up to 1276 inclusive. Model EC635P2+, EC635P3, EC635T1, EC635T2+, and EC635T3 helicopters are not certificated by the FAA and are not included on the U.S. type certificate data sheet; this AD therefore does not include those helicopters in the applicability.

The FAA issued a notice of proposed rulemaking (NPRM) to amend 14 CFR part 39 to supersede AD 2019-05-06, Amendment 39-19588 (84 FR 8961, March 13, 2019) (AD 2019-05-06). AD 2019-05-06 applied to certain Airbus Helicopters Deutschland GmbH Model EC135P1, EC135P2, EC135P2+, EC135P3, EC135T1, EC135T2, EC135T2+, and EC135T3 helicopters. The NPRM published in the Federal Register on August 3, 2021 (86 FR 41791). The NPRM was prompted by a report that a hook detached from the hoist cable. The NPRM proposed to continue to require the actions specified in AD 2019-05-06, as specified in an EASA AD. The NPRM also proposed to require a modification or replacement of the hoist cable hook assembly that would terminate the repetitive inspections and retaining ring replacements, as specified in an EASA AD.

The FAA is issuing this AD to address detachment of a hook from a hoist cable resulting in inflight failure of the hoist, which could result in injury to persons being lifted. See the MCAI for additional background information.

Discussion of Final Airworthiness Directive

Comments

The FAA gave the public the opportunity to participate in developing this final rule. The FAA received no comments on the NPRM or on the determination of the cost to the public.

Change to This Final Rule

The FAA has revised the format of paragraph (i)(5) of this AD.

Conclusion

The FAA reviewed the relevant data and determined that air safety and the public interest require adopting this final rule with the change described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related Service Information Under 1 CFR Part 51

EASA AD 2021-0011 specifies procedures for replacing the retaining ring; inspecting the hoist cable hook assembly; replacing the elastomeric energy absorber; and modifying the hoist cable hook assembly or replacing an affected hoist with a serviceable hoist, which terminates the repetitive inspections and replacements.

This AD also requires Goodrich Service Bulletin No. 44301-10-17, Revision 4, dated July 26, 2017, which the Director of the Federal Register approved for incorporation by reference as of April 17, 2019 (84 FR 8961, March 13, 2019).

This material is reasonably available because the interested parties have access to it through their normal course of business or by the means identified in the ADDRESSES section.

Other Related Service Information

Airbus Helicopters has issued Alert Service Bulletin No. ASB EC135-85A-069, Revision 0, dated August 2, 2017. The service information describes procedures for inspecting each affected hook assembly, replacing the retaining ring, and replacing the elastomeric energy absorber.

Costs of Compliance

The FAA estimates that this AD affects 341 helicopters of U.S. registry. The FAA estimates the following costs to comply with this AD:

Estimated Costs
Action | Labor cost | Parts cost | Cost per product | Cost on U.S. operators
Retained inspections and replacements of the retaining ring from AD 2019-05-06 | 0.5 work-hour × $85 per hour = $42.50 per inspection cycle | Minimal | $42.50 per inspection cycle | $14,492.50 per inspection cycle.
New modification | 1 work-hour × $85 per hour = $85 | Negligible | $85 | $28,985.

The FAA estimates the following costs to do any necessary on-condition replacement of the elastomeric energy absorber that would be required based on the results of any required inspections. The FAA has no way of determining the number of aircraft that might need this on-condition replacement:

On-Condition Costs
Action | Labor cost | Parts cost | Cost per product
Replacement of the elastomeric energy absorber | 0.5 work-hour × $85 per hour = $42.50 | $2,152 | $2,194.50

According to the manufacturer, some or all of the costs of this AD may be covered under warranty, thereby reducing the cost impact on affected operators. The FAA does not control warranty coverage for affected operators. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2019-05-06, Amendment 39-19588 (84 FR 8961, March 13, 2019); and

b. Adding the following new AD:

2021-21-01 Airbus Helicopters Deutschland GmbH: Amendment 39-21761; Docket No. FAA-2021-0611; Project Identifier MCAI-2021-00038-R.

(a) Effective Date

This airworthiness directive (AD) is effective December 10, 2021.

(b) Affected ADs

This AD replaces AD 2019-05-06, Amendment 39-19588 (84 FR 8961, March 13, 2019) (AD 2019-05-06).

(c) Applicability

This AD applies to Airbus Helicopters Deutschland GmbH Model EC135P1, EC135P2, EC135P2+, EC135P3, EC135T1, EC135T2, EC135T2+, and EC135T3 helicopters, all serial numbers up to 1276 inclusive, certificated in any category, with an affected hoist as identified in European Union Aviation Safety Agency (EASA) AD 2021-0011, dated January 12, 2021 (EASA AD 2021-0011).

(d) Subject

Joint Aircraft System Component (JASC) Code 2500, Cabin Equipment/Furnishings.

(e) Unsafe Condition

This AD was prompted by a report that a hook detached from the hoist cable. The FAA is issuing this AD to address detachment of a hook from a hoist cable resulting in inflight failure of the hoist, which could result in injury to persons being lifted.

(f) Compliance

Comply with this AD within the compliance times specified, unless already done.

(g) Retained Requirements of Paragraph (e) of AD 2019-05-06, With No Changes

This paragraph restates the requirements of paragraph (e) of AD 2019-05-06, with no changes. For Model EC135P1, EC135P2, EC135P2+, EC135P3, EC135T1, EC135T2, EC135T2+, and EC135T3 helicopters: Within 90 hours time-in-service (TIS) after April 17, 2019 (the effective date of AD 2019-05-06) and thereafter at intervals not to exceed 180 hours TIS:

(1) Inspect the hook assembly and determine whether the elastomeric energy absorber has taken a permanent compression set by following the Accomplishment Instructions, paragraphs 2.A and 2.B, of Goodrich Service Bulletin No. 44301-10-17, Revision 4, dated July 26, 2017 (SB 44301-10-17). If the elastomeric energy absorber has taken a permanent compression set, replace the elastomeric energy absorber before the next hoist operation.

(2) Replace the retaining ring by following the Accomplishment Instructions, paragraphs 2.D through 2.K, of SB 44301-10-17.

(h) New Requirements

Except as specified in paragraph (i) of this AD: Comply with all required actions and compliance times specified in, and in accordance with, EASA AD 2021-0011.

(i) Exceptions to EASA AD 2021-0011

(1) Where EASA AD 2021-0011 refers to its effective date, this AD requires using the effective date of this AD.

(2) Paragraphs (1) and (2) of EASA AD 2021-0011 do not apply to this AD. The equivalent FAA requirements are specified in paragraph (g) of this AD.

(3) The “Remarks” section of EASA AD 2021-0011 does not apply to this AD.

(4) Where the service information referenced in EASA AD 2021-0011 specifies to discard certain parts, this AD requires removing those parts from service.

(5) Where paragraph (3) of EASA AD 2021-0011 specifies a method of accomplishment of certain actions, this AD requires replacing the text “modify the affected hoist in accordance with the instructions of the modification ASB,” with “modify the affected hoist in accordance with paragraphs 3.B.1 and 3.B.2 of the Accomplishment Instructions of the modification ASB.”

(6) Where the service information referenced in EASA AD 2021-0011 specifies to use tooling, equivalent tooling may be used.

(7) Accomplishing the modification specified in paragraph (3) of EASA AD 2021-0011 or the replacement specified in paragraph (4) of EASA AD 2021-0011 terminates the repetitive actions required by paragraph (g) of this AD.

(8) Where paragraph (6) of EASA AD 2021-0011 refers to October 25, 2017 (the effective date of EASA AD 2017-0199), this AD requires using the effective date of this AD; and where paragraph (6) of EASA AD 2021-0011 specified to do actions “as required by paragraph (1) of this [EASA] AD,” for this AD, do the actions required by paragraph (g) of this AD.

(9) Paragraph (7) of EASA AD 2021-0011 does not apply to this AD. For this AD, for helicopters that do not have an affected hoist identified in paragraph (c) of this AD installed: As of the effective date of this AD, do not install an affected hoist identified in paragraph (c) of this AD on any helicopter.

(j) Special Flight Permit

Special flight permits may be issued in accordance with 14 CFR 21.197 and 21.199 to operate the helicopter to a location where the required actions can be done to the helicopter (if the operator elects to do so), provided the hoist is not used.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l)(2) of this AD. Information may be emailed to: 9-AVS-AIR-730-AMOC@faa.gov.

(2) Before using any approved AMOC, notify your appropriate principal inspector, or lacking a principal inspector, the manager of the local flight standards district office/certificate holding district office.

(l) Related Information

(1) Airbus Helicopters Alert Service Bulletin No. ASB EC135-85A-069, Revision 0, dated August 2, 2017, which is not incorporated by reference, contains additional information about the actions specified in paragraph (g) of this AD. To obtain a copy of this service information, contact Airbus Helicopters using the information in paragraph (m)(6) of this AD. You may view a copy of this service information at the FAA using the information in paragraph (m)(7) of this AD.

(2) For more information about this AD, contact Jacob Fitch, Aerospace Engineer, COS Program Management Section, Operational Safety Branch, Compliance & Airworthiness Division, FAA, 10101 Hillwood Pkwy., Fort Worth, TX 76177; phone: (817) 222-4130; email: jacob.fitch@faa.gov.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on December 10, 2021.

(i) European Union Aviation Safety Agency (EASA) AD 2021-0011, dated January 12, 2021.

(ii) [Reserved]

(4) The following service information was approved for IBR on April 17, 2019 (84 FR 8961, March 13, 2019).

(i) Goodrich Service Bulletin No. 44301-10-17, Revision 4, dated July 26, 2017.

Note 1 to paragraph (m)(4)(i): Goodrich Service Bulletin No. 44301-10-17, Revision 4, dated July 26, 2017, is attached to Airbus Helicopters Alert Service Bulletin No. EC135-85A-069, Revision 0, dated August 2, 2017, which is not incorporated by reference in this AD.

(ii) [Reserved]

(5) For EASA AD 2021-0011, contact the EASA, Konrad-Adenauer-Ufer 3, 50668 Cologne, Germany; phone: +49 221 8999 000; email: ADs@easa.europa.eu; internet: www.easa.europa.eu. You may find this EASA AD on the EASA website at https://ad.easa.europa.eu.

(6) For Goodrich service information identified in this AD, contact Airbus Helicopters, 2701 N Forum Drive, Grand Prairie, TX 75052; phone: (972) 641-0000 or (800) 232-0323; fax: (972) 641-3775; or at https://www.airbus.com/helicopters/services/support.html.

(7) You may view this service information at the FAA, Office of the Regional Counsel, Southwest Region, 10101 Hillwood Pkwy., Room 6N-321, Fort Worth, TX 76177. For information on the availability of this material at the FAA, call 817-222-5110. This material may be found in the AD docket on the internet at https://www.regulations.gov by searching for and locating Docket No. FAA-2021-0611.

(8) You may view this material that is incorporated by reference at the National Archives and Records Administration (NARA). For information on the availability of this material at NARA, email fr.inspection@nara.gov, or go to: https://www.archives.gov/federal-register/cfr/ibr-locations.html.

Issued on September 27, 2021.
Lance T. Gant,
Director, Compliance & Airworthiness Division, Aircraft Certification Service.

[FR Doc. 2021-24154 Filed 11-4-21; 8:45 am]

BILLING CODE 4910-13-P